DEPARTMENT OF TRANSPORTATION

Federal Highway Administration

Notice To Rescind Notice of Intent To Prepare Environmental Impact Statement, US 1/MD 201 Project, Prince George's County, Maryland

AGENCY: Federal Highway Administration (FHWA), DOT.

ACTION: Notice to rescind Notice of Intent to prepare an Environmental Impact Statement.

SUMMARY: The Federal Highway Administration (FHWA) is issuing this notice to advise the public that FHWA is rescinding its Notice of Intent to prepare an Environmental Impact Statement for the US 1/MD 201 project in Prince George's County, Maryland.

FOR FURTHER INFORMATION CONTACT: Jeanette Mar, Environmental Program Manager, Federal Highway Administration, Maryland Division, (410) 779-7152, or email: jeanette.mar@dot.gov; Jeremy Beck, MDOT SHA Project Manager (410) 545-8500, or email: JBeck@mdot.maryland.gov.

SUPPLEMENTARY INFORMATION: A Notice of Intent to prepare an Environmental Impact Statement for the US 1/MD 201 project was published in the Federal Register at 67 FR 8332 on February 21, 2002. The purpose and need for the project was to improve safety and accommodate existing and projected travel demand in the vicinity of Beltsville, Maryland. No alternative was selected at that time.

The proposed transportation project included portions of both the US 1 and MD 201 corridors between the Capital Beltway (I-95/I-495) and Muirkirk Road in Prince George's County, Maryland, a distance of approximately 5 miles in length.

Due to Federal and State funding constraints, as well as the unlikelihood of adequate funding for all project phases in the foreseeable future, the Notice of Intent is hereby rescinded.

Gregory Murrill,
Division Administrator, Federal Highway Administration, Baltimore, Maryland.

[FR Doc. 2020-14638 Filed 7-7-20; 8:45 am]

BILLING CODE 4910-22-P